SMALL BUSINESS ADMINISTRATION

[Docket Number: 2013-0008]

Small Business Innovation Research and Small Business Technology Transfer Programs Commercialization Benchmark

AGENCY: Small Business Administration.

ACTION: Notice; reopening of comment period and delay of effective date.

SUMMARY: The Small Business Administration (SBA) is reopening the comment period for the Small Business Innovation Research (SBIR) and Small Business Technology Transfer (STTR) Commercialization Benchmark notice, which was published in the Federal Register on August 8, 2013, with a 30-day public comment period. We are reopening the comment period to allow all interested parties an additional period of time to comment on this notice. In addition, SBA is also delaying the effective date for application of the Commercialization Benchmark until after the close of this additional comment period.

DATES: Effective Date: November 15, 2013.

Comment Date: Comments to this notice must be received on or before October 28, 2013.

ADDRESSES: You may submit comments, identified by Docket Number 2013-0008 by any of the following methods:

Federal eRulemaking Portal: http://www.regulations.gov. Follow the instructions for submitting comments.

Mail/Hand Delivery/Courier: Edsel Brown, Jr., Assistant Director, Office of Innovation, Small Business Administration, 409 Third Street SW., Washington, DC 20416.

SBA will post all comments to this notice without change on www.regulations.gov. If you wish to submit confidential business information (CBI) as defined in the User Notice at www.regulations.gov, you must submit such information to Edsel Brown, Jr., Assistant Director, Office of Innovation, Small Business Administration, 409 Third Street SW., Washington, DC 20416; or send an email to Technology@sba.gov. Highlight the information that you consider to be CBI and explain why you believe SBA should hold this information as confidential. SBA will review the information and make the final determination whether to publish it.

FOR FURTHER INFORMATION CONTACT: Edsel Brown, Jr., Assistant Director, Office of Innovation, Small Business Administration, 409 Third Street SW., Washington, DC 20416; telephone (202) 205-6450; email (Technology@sba.gov).

SUPPLEMENTARY INFORMATION: Section 5165 of the SBIR/STTR Reauthorization Act of 2011, Public Law 112-81, 125-Stat. 1298, as implemented by section 4(a)(3) of the SBIR and STTR Policy Directives, requires each of the eleven SBIR/STTR participating agencies to establish an SBA-approved commercialization rate benchmark for small business concerns (SBC or firm) that have been awarded multiple prior Phase II awards. The commercialization benchmark establishes the level of Phase III commercialization results a firm must have achieved from work it performed under prior Phase II awards in order to be eligible to receive a new Phase I award. The benchmark will apply only to small business concerns that have received more than 15 Phase II awards during the last 10 fiscal years, excluding the two most recently completed fiscal years.

On August 8, 2013, SBA published a notice in the Federal Register at 78 FR 48537 to announce the approved SBIR/STTR commercialization benchmark and to solicit comments from the public on said benchmark. The 30-day comment period ended on September 9, and consistent with statutory authority, the benchmark is scheduled to take effect on October 7, 2013. However, in response to a request from interested parties and impacted stakeholders for additional time to provide comments on the benchmark, SBA is reopening the comment period for an additional 30 days. As a result of this extended comment period, SBA is also delaying the effective date of the benchmark until November 15, 2013. SBA will review all comments received in response to the Commercialization Benchmark Notice and will issue the final commercialization benchmark requirement within the timeframe noted above in the DATES section of this notice. The final requirement will be posted on www.sbir.gov.

Dated: September 20, 2013.
Pravina Raghavan,
Deputy Associate Administrator for Investments and Innovation.

[FR Doc. 2013-23492 Filed 9-25-13; 8:45 am]

BILLING CODE 8025-01-P